CORPORATION FOR NATIONAL AND COMMUNITY SERVICE

Proposed New Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. This form is available in alternate formats. Individuals who use a telecommunications device for the deaf (TTY/TDD) may call (202) 606-5256 between the hours of 9 a.m. and 4:30 p.m. Eastern time, Monday through Friday.

Currently, the Corporation is soliciting comments concerning a new information collection for the Parent Corps Evaluation. Copies of the information collection request can be obtained by contacting the office listed below in the ADDRESSES section of this notice.

DATES: Written comments must be submitted to the office listed in the ADDRESSES section by March 9, 2004.

ADDRESSES: You may submit comments, identified by the title of the information collection activity, by any of the following methods:

(1) By mail sent to: Corporation for National and Community Service, Attn: Kevin Cramer, Department of Research and Policy Development, Room 8109, 1201 New York Avenue, NW, Washington, DC 20525.

(2) By hand delivery or by courier to the Corporation's mailroom, Room 6010, at the mail address given in paragraph (1) above, between 9 a.m. and 4 p.m. Monday through Friday, except Federal holidays.

(3) By fax to: (202) 565-2785, Attn: Kevin Cramer, Department of Research and Policy Development.

(4) Electronically through the Corporation's e-mail address system: kcramer@cns.gov.

SUPPLEMENTARY INFORMATION: The Corporation is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Background

Parent Corps Evaluation: The Corporation proposes to conduct an evaluation of its Parent Corps program. The Parent Corps, whose funds were made available under the authority provided in Public Law 108-7, the Omnibus Appropriations Act for fiscal year 2003, is a special volunteer program under section 122 of the Domestic Volunteer Service Act of 1972, as amended (42 U.S.C. 4992), and is three-year effort to create a national training system and network of volunteer parents engaged in a nationwide substance abuse prevention effort. Using a “training the trainer” model, organizations will work with volunteer coordinators to train and support volunteer parents of children aged 18 and under in providing drug prevention training.

The specific aims of this evaluation are to describe the implementation of the Parent Corps program (implementation evaluation) and to evaluate its impact on desired outcomes (experimental impact evaluation). The implementation evaluation will include all 20 schools to be targeted by the Parent Corps. The randomized experiment impact evaluation will include parents and children at 18 schools (9 schools targeted by the Parent Corps and 9 control schools). These 18 treatment and control schools will be selected via the Parent Corps' request for applications process.

Key research questions include changes in the following outcomes: perceived risk/harm from youth substance use (tobacco, alcohol, or illicit drug us), accuracy of perceptions about youth substance use, perceived susceptibility of their own youth to substance use, self-efficacy to influence their youth's substance use, intervention activities among parents aware of their youth's substance use, treatment-seeking for their youth's substance use, parenting skills, parent substance use, exposure to prevention program activities, and demographic characteristics. In addition, information will be collected from youths aged 12 to 18 living with surveyed parents about involvement in drug-free activities, their parents' parenting skills, parent-child communication, perceived risk/harm from youth substance use, accuracy of perceptions about youth substance use, association with drug-using peers, perceived susceptibility to substance use and intentions to use substances, substance use, exposure to prevention program activities, and demographic characteristics. Implementation evaluation data will be collected primarily through questionnaires mailed to parent leaders and parent volunteers delivering the program, and impact evaluation data will be collected via computer-assisted telephone interview (CATI) with parents and their children aged 12 to 18 who attend treatment or control schools.

Type of Review: New collection.

Agency: Corporation for National and Community Service.

Title: Parent Corps Evaluation.

OMB Number: New.

Agency Number: None.

Affected Public: Individuals and households.

Total Respondents: 8,220.

Frequency: Annually.

Average Time Per Response: 15 minutes.

Estimated Total Burden Hours: 2,055 hours.

Total Burden Cost (capital/startup): None.

Total Burden Cost (operating/maintenance): None.

Comments submitted in response to this notice will be summarized and/or included in the request for Office of Management and Budget approval of the information collection request; they will also become a matter of public record.

Dated: January 5, 2004.
David A. Reingold,
Director, Department of Research and Policy Development.

[FR Doc. 04-467 Filed 1-8-04; 8:45 am]

BILLING CODE 6050-$$-P